DEPARTMENT OF ENERGY

Federal Energy Regulatory Commission

[Docket No. CP20-47-000]

PennEast Pipeline Company, LLC; Notice of Schedule for Environmental Review of the Penneast 2020 Amendment Project

On January 30, 2020, PennEast Pipeline Company, LLC (PennEast) filed an application in Docket No. CP20-47-000 with the Federal Energy Regulatory Commission (FERC or Commission) requesting to amend the Certificate of Public Convenience and necessity and related authorizations issued by the Commission on January 19, 2018 in Docket No. CP15-558-000 Certificate Order under section 7(c) of the Natural Gas Act NGA. The proposed project is known as the PennEast 2020 Amendment Project (Project). PennEast requests authorization to construct and operate the previously authorized project in two phases, beginning with the facilities located in Pennsylvania through approximately milepost 68 of the Certificated Route. As part of Phase 1, PennEast proposes to include new delivery points with Columbia Gas Transmission, LLC and Adelphia Gateway, LLC at a new metering and regulating station (Church Road Interconnects) in Northampton County, Pennsylvania. The Phase 1 facilities would deliver up to 650,000 dekatherms per day of firm transportation service to new delivery points with Columbia Gas Transmission, LLC and Adelphia Gateway, LLC at the proposed metering and regulating station. PennEast states it will continue to work towards acquiring the New Jersey authorizations for the Phase 2 facilities located in New Jersey.

On February 12, 2020, the Commission issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—July 10, 2020

90-day Federal Authorization Decision Deadline—October 8, 2020

If a schedule change becomes necessary, additional notice will be provided so that the relevant agencies are kept informed of the Project's progress.

Project Description

The 2020 Amendment Project would consist of a single metering and regulating station with two separate interconnections, measurement facilities, and a pig launcher and receiver. The new station, known as the Church Road Interconnects, is all located within a 2.1-acre site at Milepost 68.2R2 along the authorized PennEast Pipeline route, in Bethlehem Township, Northampton County, Pennsylvania.

Background

On February 28, 2020, the Commission issued a Notice of Intent to Prepare an Environmental Assessment for the Proposed Penneast 2020 Amendment Project, and Request for Comments on Environmental Issues (NOI). The NOI was sent to federal, state, and local government agencies; Native American tribes; affected landowners; and interested parties that filed comments on the PennEast 2020 Amendment Project in response to the Notice of Application. All substantive comments will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the “eLibrary” link, select “General Search” from the eLibrary menu, enter the selected date range and “Docket Number” excluding the last three digits (i.e., CP20-47), and follow the instructions. For assistance with access to eLibrary, the helpline can be reached at (866) 208-3676, TTY (202) 502-8659, or at FERCOnlineSupport@ferc.gov.

The eLibrary link on the FERC website also provides access to the texts of formal documents issued by the Commission, such as orders, notices, and rule makings.

Dated: March 18, 2020.
Kimberly D. Bose,
Secretary.

[FR Doc. 2020-06139 Filed 3-23-20; 8:45 am]

BILLING CODE 6717-01-P